ENVIRONMENTAL PROTECTION AGENCY

[EPA-HQ-OPP-2006-0517; FRL-7758-7]

Endangered Species Protection Program; Notice of Public Meeting

AGENCY: Environmental Protection Agency (EPA).

ACTION: Notice.

SUMMARY: EPA's Office of Pesticide Programs will hold a public meeting on February 22, 2006. This notice announces the location and times for the meeting, and sets forth the tentative agenda topics. The focus of the meeting is to inform the public about aspects of EPA's Endangered Species Protection Program field implementation, including EPA's overall approach to field implementation, under what circumstances EPA will be employing this approach, the responsibilities of the public, and the roles of other government agencies. The meeting will also provide an opportunity for the public to ask specific questions and receive answers.

DATES: The meeting will be held on Wednesday, February 22, 2006, from 9 a.m. to 4:30 p.m.

ADDRESSES: The meeting will be held at the Sheraton Crystal City Hotel, 1800 Jefferson Davis Highway, Arlington, VA 22202.

FOR FURTHER INFORMATION CONTACT: Megan Thynge, Environmental Fate and Effects Division (7507C), Office of Pesticide Programs, Environmental Protection Agency, 1200 Pennsylvania Ave., NW., Washington, DC 20460-0001; telephone number: (703) 305-6005; fax number: (703) 305-6309; e-mail address:thynge.megan@epa.gov.

SUPPLEMENTARY INFORMATION:

I. General Information

A. Does this Action Apply to Me?

This action is directed to the public in general, and may be of particular interest to State and Tribal regulatory partners, other interested Federal agencies, environmental or public interest groups, pesticide registrants and pesticide users. Since other entities may also be interested, the Agency has not attempted to describe all the specific entities that may be affected by this action. If you have any questions regarding the applicability of this action to a particular entity, consult the person listed under FOR FURTHER INFORMATION CONTACT.

B. How Can I Get Copies of this Document and Other Related Information?

1. Docket. EPA has established a docket for this action under docket identification (ID) number EPA-HQ-OPP-2006-0517. Publicly available docket materials are available either electronically at http://www.regulations.gov or in hard copy at the Public Information and Records Integrity Branch (PIRIB), Rm. 119, Crystal Mall #2, 1801 S. Bell St., Arlington, VA. This Docket Facility is open from 8:30 a.m. to 4 p.m., Monday through Friday, excluding legal holidays. The Docket telephone number is (703) 305-5805.

2. Electronic access. You may access this Federal Register document electronically through the EPA Internet under the “Federal Register” listings at http://www.epa.gov/fedrgstr/.

II. Background

In the Federal Register of November 2, 2005 (70 FR 66392) (FRL-7739-7), EPA published a notice announcing its approach to field implementation of its Endangered Species Protection Program (ESPP). The goal of the ESPP is to carry out responsibilities under the Federal Insecticide, Fungicide, and Rodenticide Act (FIFRA) in compliance with the Endangered Species Act (ESA), while at the same time not placing unnecessary burden on agriculture and other pesticide users. The implementation approach will relay geographically specific pesticide use limitations to the pesticide user when necessary to protect listed species. All pesticide products EPA determines “may affect” a listed species or their designated critical habitat, may be subject to the ESPP.

This public meeting will address ESPP program elements so that the public will understand EPA's overall approach to field implementation, what their responsibilities will be, under what circumstances EPA would be employing this approach, and the roles of other government agencies. The meeting will also provide an opportunity for the public to ask specific questions and receive answers.

III. Tentative Agenda

The tentative meeting agenda is outlined below, and the final agenda will be posted at http://www.epa.gov/espp, along with hotel information and meeting logistics.

1. Overview of Endangered Species Act (ESA) and Endangered Species Protection Program (ESPP).

2. Scope of ESPP.

3. Implementation process.

4. Label language and enforcement.

5. Endangered Species Protection Bulletins (Bulletins).

6. Public participation and the role of States and Tribes.

7. Implementation timing.

List of Subjects

Environmental protection, Endangered species, Pesticides.

Dated: January 13, 2006.
James Jones,
Director, Office of Pesticide Programs.

[FR Doc. E6-648 Filed 1-19-06; 8:45 am]

BILLING CODE 6560-50-S